SMALL BUSINESS ADMINISTRATION

Declaration of Disaster #3633; State of West Virginia (Amendment #1)

In accordance with a notice received from the Department of Homeland Security—Federal Emergency Management Agency—effective September 24, 2004, the above numbered declaration is hereby amended to include Berkeley, Cabell, Jackson, Kanawha, Lincoln, Mason, Morgan, and Wood Counties as disaster areas due to damages caused by severe storms, flooding and landslides occurring on September 16, 2004, and continuing.

In addition, applications for economic injury loans from small businesses located in the contiguous counties of Boone, Clay, Fayette, Hampshire, Jefferson, Logan, Mingo, Nicholas, Putnam, Raleigh, and Wayne in the State of West Virginia; Athens, Gallia, Lawrence, and Meigs in the State of Ohio; Allegany and Washington Counties in the State of Maryland; and Clarke and Frederick Counties in the Commonwealth of Virginia may be filed until the specified date at the previously designated location. All other counties contiguous to the above named primary counties have previously been declared.

The economic injury number assigned to Maryland is 9AA200 and Virginia is 9AA300.

All other information remains the same, i.e., the deadline for filing applications for physical damage is November 19, 2004 and for economic injury the deadline is June 20, 2005.

(Catalog of Federal Domestic Assistance Program Nos. 59002 and 59008)

Dated: September 27, 2004.
Herbert L. Mitchell,
Associate Administrator for Disaster Assistance.

[FR Doc. 04-22292 Filed 10-4-04; 8:45 am]

BILLING CODE 8025-01-P